DEPARTMENT OF THE TREASURY

Agency Information Collection Activities; Submission for OMB Review; Comment Request; Importer's Records and Reports

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments must be received on or before February 25, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

Alcohol and Tobacco Tax and Trade Bureau (TTB)

Title: Importer's Records and Reports (TTB REC 5170/1).

OMB Control Number: 1513-0064.

Type of Review: Extension of a currently approved collection.

Description: Pursuant to chapter 51 of the IRC (26 U.S.C.) and the FAA Act at 27 U.S.C. 201 et seq., TTB regulates, among other things, the importation of distilled spirits, wine, and malt beverages. Pursuant to chapter 52 of the IRC (26 U.S.C.) TTB also regulates the importation of tobacco products, processed tobacco, and cigarette papers and tubes. Those statutory provisions are the basis of the TTB alcohol and tobacco regulations that require importers of those products to obtain permits and to submit certain information upon importation. Customs and Border Protection (CBP) and TTB use the information collected under this request to ensure that alcohol and tobacco product importers have the required permits, have paid the applicable taxes, and that commodities released from customs custody without payment of tax for transfer to a bonded facility are eligible for such release. TTB also uses this collection to ensure that imported alcohol product labels comply with FAA Act requirements. The reporting provisions allow for the submission of import-related information electronically along with the electronic submission of entry information to CBP. In addition, TTB uses the letterhead applications covered under this collection to evaluate requests to vary from the regulatory provisions. The collected information is necessary to ensure applicable tax revenue is paid and that alcohol and tobacco importers comply with Federal laws and regulations.

TTB Recordkeeping Number: TTB REC 5170/1.

Affected Public: Business or other for-profits.

Estimated Number of Respondents: 10,550.

Frequency of Response: On occasion.

Estimated Total Number of Annual Responses: 63,300.

Estimated Time per Response: 20 minutes.

Estimated Total Annual Burden Hours: 21,100 hours.

Authority: 44 U.S.C. 3501 et seq.

Dated: January 21, 2021.
Molly Stasko,
Treasury PRA Clearance Officer.

[FR Doc. 2021-01682 Filed 1-25-21; 8:45 am]

BILLING CODE 4810-31-P